DEPARTMENT OF THE INTERIOR

Bureau of Land Management

[LLCAD068000-L14300000-ET0000; CACA 054016]

Notice of Proposed Withdrawal and Notification of a Public Meeting; California

AGENCY: Bureau of Land Management, Interior.

ACTION: Notice.

SUMMARY: The Assistant Secretary of the Interior for Land and Minerals Management proposes to withdraw, subject to valid existing rights, on behalf of the Bureau of Land Management (BLM), 10,094.03 acres of public lands located in San Bernardino County, California, from location and entry under the United States mining laws, but not from leasing under the mineral or geothermal leasing laws or disposal under the Materials Act of 1947. The purpose of the proposed withdrawal is to protect the botanical integrity of the Coolgardie Mesa and West Paradise Conservation Areas in San Bernardino County, California as a conservation measure for the federally endangered Lane Mountain Milkvetch. This notice temporarily segregates the lands from location and entry under the United States mining law for 2 years, gives the public an opportunity to comment on the proposed withdrawal application, and announces the date, time, and location of a public meeting.

DATES: The BLM must receive comments on or before November 25, 2014. The BLM will hold a public meeting in connection with the proposed withdrawal from 6 p.m. to 8 p.m. on October 14, 2014, at the BLM Barstow Field Office at the address below.

ADDRESSES: Comments should be sent to Katrina Symons, Field Manager, Barstow Field Office, BLM, 2601 Barstow Road, Barstow, CA 92311.

FOR FURTHER INFORMATION CONTACT: Elizabeth Easley, California State Office, BLM, 916-978-4673. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The BLM filed an application requesting that the Assistant Secretary for Land and Minerals Management withdraw, subject to valid existing rights, the following described public lands located in San Bernardino County, California, from location and entry under the United States mining laws, but not from leasing under the mineral or geothermal leasing laws, or disposal under the Materials Act of 1947, to protect the botanical integrity of the Coolgardie Mesa and West Paradise Conservation Areas as a conservation measure for the federally endangered Lane Mountain Milkvetch:

Mount Diablo Meridian

T. 32 S., R. 46 E.,

Sec. 34;

Sec. 35, N½, SW¼, and W½SE¼.

T. 32 S., R. 47 E.,

Sec. 10, lots 1 to 4, inclusive, E½NE¼NE¼NW¼, E½SE¼NE¼NW¼, E½NE¼SE¼NW¼, E½SE¼SE¼NW¼, E½NE¼NE¼SW¼, E½SE¼NE¼SW¼, E½NE¼SE¼SW¼, and E½SE¼SE¼SW¼;

Sec. 28, S½;

Sec. 29, SW¼NE¼SW¼, SE¼NW¼SW¼, NE¼SW¼SW¼, and NW¼SE¼SW¼;

Sec. 30, lots 3 and 4, E½SW¼, and SE¼;

Sec. 31 and 32;

Sec. 33, SE¼.

San Bernardino Meridian

T. 11 N., R. 1 W.,

Secs. 2, 3, 6, 7, 8, 10, and 11.

T. 12 N., R. 1 W.,

Sec. 31;

Sec. 32, lot 4, SW¼NW¼, and W½SW¼;

Secs. 34 and 35.

The areas described aggregate 10,094.03 acres, more or less, in San Bernardino County.

The following described non-Federal lands are within the exterior boundaries of the Coolgardie Mesa and West Paradise Conservation Areas. If title to these non-Federal lands is subsequently acquired by the United States, the lands will become subject to the terms and conditions of this withdrawal.

Mount Diablo Meridian

T. 32 S., R. 46 E.,

Sec. 36, N½.

T. 32 S., R. 47 E.,

Sec. 29, N½NE¼SW¼, SE¼NE¼SW¼, N½NW¼SW¼, SW¼NW¼SW¼, NW¼SW¼SW¼, S½SW¼SW¼, NE¼SE¼SW¼, S½SE¼SW¼, and SE¼;

Sec. 33, N½ and SW¼.

San Bernardino Meridian

T. 12 N., R. 1 E.,

Sec. 7.

T. 11 N., R. 1 W.,

Sec. 5, W½ lot 1 in NW¼, W½ lot 2 in NW¼, and S½.

T. 11 N., R. 2 W.,

Sec. 1.

T. 12 N., R. 2 W.,

Sec. 36.

The areas described aggregate 4,055.87 acres, more or less, in San Bernardino County. The total areas described contain approximately 10,094.03 acres of public lands and 4,055.87 acres of non-Federal lands in San Bernardino County.

The Assistant Secretary for Land and Minerals Management approved the BLM's petition/application. Therefore, the petition/application constitutes a withdrawal proposal of the Secretary of the Interior (43 CFR 2310.1-3(e)).

The purpose of the proposed withdrawal is to protect the botanical integrity of the Coolgardie Mesa and West Paradise Conservation Areas in San Bernardino County, California as a conservation measure for the federally endangered Lane Mountain Milkvetch.

The use of a right-of-way, interagency agreement, or cooperative agreement would not adequately constrain non-discretionary uses that may result in disturbance of the critical habitat of the Lane Mountain Milkvetch, a species of limited geographical range. The area covered comprises approximately two-thirds of the entire known range of the species.

There are no suitable alternative sites as the described lands contain the resource values to be protected, and there is no alternative strategy to assure avoidance of adverse impacts to habitat and individuals.

No additional water rights will be needed to fulfill the purpose of the requested withdrawal.

Records relating to the application may be examined by contacting the BLM at the above address and phone number.

For a period until November 25, 2014, all persons who wish to submit comments, suggestions, or objections in connection with the proposed withdrawal may present their views in writing to the Field Manager, BLM Barstow Field Office, at the above address. Information regarding the proposed withdrawal will be available for public review at the BLM's Barstow Field Office during regular business hours, 8:00 a.m. to 4:30 p.m., Monday through Friday, except Federal holidays. Before including your address, phone number, email address, or other personal identifying information in your comment, you should be aware that your entire comment—including your personal identifying information—may be made publicly available at any time. Individuals who submit written comments may request confidentiality by asking us in your comment to withhold your personal identifying information from public review; however, we cannot guarantee that we will be able to do so.

Notice is hereby given that a public meeting in connection with the proposed withdrawal will be held on October 14, 2014 at the Barstow Field office at the address stated above from 6 p.m. to 8 p.m. The BLM will publish a notice of the time and place in at least one newspaper of general circulation no less than 30 days before the scheduled meeting date.

For a period until August 29, 2016, subject to valid existing rights, the public lands described in this notice will be segregated from location and entry under the United States mining laws, but not from leasing under the mineral or geothermal leasing laws or disposal under the Mineral Materials Act of 1947, unless the application is denied or canceled or the withdrawal is approved prior to that date.

Licenses, permits, cooperative agreements, or discretionary land use authorizations of a temporary nature that enhance the species or its habitat and will not significantly impact the values to be protected by the withdrawal may be allowed with the approval of the authorized officer of the BLM during the temporary segregation period.

The application will be processed in accordance with the regulations set forth in 43 CFR part 2300.

Thomas Pogacnik,
Deputy State Director, Natural Resources (CA930).

[FR Doc. 2014-20387 Filed 8-26-14; 8:45 am]

BILLING CODE 4310-40-P